DEPARTMENT OF HEALTH AND HUMAN SERVICES

Health Resources and Services Administration

Ryan White HIV/AIDS Program, Part C Early Intervention Services Grant Under the Ryan White HIV/AIDS Program

AGENCY: Health Resources and Services Administration (HRSA), Department of Health and Human Services.

ACTION: Notice of Ryan White Part C Early Intervention Services One-Time Noncompetitive Award to Ensure Continued HIV Primary Medical Care.

SUMMARY: To prevent a lapse in comprehensive primary care services for persons living with HIV/AIDS, HRSA will provide one-time noncompetitive Part C funds to the Aaron E. Henry Community Health Center (AEHCHC), Clarksville, Mississippi.

SUPPLEMENTARY INFORMATION: The amount of the award to ensure ongoing HIV medical services is $178,579.

Authority: Section 2651 of the Public Health Service Act, 42 U.S.C. 300ff-51

CFDA Number: 93.918

Project period: The period of support for this award varies according to the circumstances and is explained in further detail below.

Justification for the Exception to Competition: The Tutwiler Clinic, Tutwiler, MS; H76HA21225 announced the December 31, 2012, relinquishment of their Part C grant due to the loss of administrative and clinical resources. To prevent a lapse in HIV medical services, the grant for $178,579 will be awarded to AEHCHC, Clarksdale, MS, to provide HIV medical care. The $178,579 represents a proportional share of the last award to Tutwiler Clinic. AEHCHC has been identified as an interim provider for the Part C grant and is currently a HRSA-funded community health center which offers HIV medical care. The 6 months of funding will ensure continued service until the service area is competed under HRSA-13-168 with a July 1, 2013, start date.

FOR FURTHER INFORMATION CONTACT: John Fanning; by email at jfanning@hrsa.gov or by phone at 301-443-0493.

Dated: February 6, 2013.
Mary K. Wakefield,
Administrator.

[FR Doc. 2013-03292 Filed 2-12-13; 8:45 am]

BILLING CODE 4165-15-P